DEPARTMENT OF THE TREASURY

Office of Foreign Assets Control

Unblocking of Specially Designated National and Blocked Person Pursuant to Executive Order 13288, as Amended by Executive Order 13469, and Executive Order 13391

AGENCY: Office of Foreign Assets Control, Treasury.

ACTION: Notice.

SUMMARY: The Treasury Department's Office of Foreign Assets Control (OFAC) is removing the name of one individual whose property and interests in property have been blocked pursuant to Executive Order 13288 of March 6, 2003, “Blocking Property of Persons Undermining Democratic Institutions in Zimbabwe,” as amended by Executive Order 13391, “Blocking Property of Additional Persons Undermining Democratic Processes or Institutions in Zimbabwe,” and Executive Order 13469 of July 25, 2008, “Blocking Property of Additional Persons Undermining Democratic Processes or Institutions in Zimbabwe.”

DATES: OFAC's action described in this notice are effective as of August 15, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410 (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202-622-0077.

Notice of OFAC Actions

On August 15, 2016, OFAC, in consultation with the State Department, determined that circumstances no longer warrant the inclusion of the following individual on OFAC's SDN list, and that this individual is no longer subject to the blocking provisions of Section 1(a) of E.O. 13288, as amended by E.O. 13469, and section 1(a) of E.O. 13991.

1. AL-Shanfari, Thamer Bin Said Ahmed (A.K.A. Al Shanfari, Sheikh Thamer; A.K.A. Al Shanfari, Thamer; A.K.A. Al Shanfari, Thamer Said Ahmed; A.K.A. Al-Shanfari, Thamer Bin Saeed; A.K.A. Al-Shanfari, Thamer Said Ahmed; A.K.A. Shanfari, Thamer), P.O. Box 18, Ruwi 112, Oman; DOB 03 Jan 1968; Alt. Nationality Oman; Alt. Citizen Oman; Passport 00000999 (Oman); Alt. Passport 3253 (Oman) (Individual) [Zimbabwe].

Dated: August 15, 2016.
John E. Smith,
Acting Director, Office of Foreign Assets Control.

[FR Doc. 2016-19784 Filed 8-18-16; 8:45 am]

BILLING CODE 4810-AL-P